DEPARTMENT OF COMMERCE

International Trade Administration

A-570-848

Freshwater Crawfish Tail Meat from the People's Republic of China: Partial Rescission of Antidumping Duty Administrative Review

AGENCY: Import Administration, International Trade Administration, Department of Commerce.

SUMMARY: In response to a request from Qingdao Jinyongxiang Aquatic Foods Co., Ltd., the Department of Commerce initiated an administrative review of the antidumping duty order on freshwater crawfish tail meat from the People's Republic of China for exports of subject merchandise by Qingdao Jinyongxiang Aquatic Foods Co., Ltd. The period of review is September 1, 2003, through August 31, 2004. The Department of Commerce is now rescinding the administrative review with respect to Qingdao Jinyongxiang Aquatic Foods Co., Ltd. because Qingdao Jinyongxiang Aquatic Foods Co., Ltd. made no exports of subject merchandise into the United States during the period of review.

EFFECTIVE DATE: March 31, 2005.

FOR FURTHER INFORMATION CONTACT: Scot Fullerton or Benjamin Kong, AD/CVD Operations, Office 9, Import Administration, International Trade Administration, U.S. Department of Commerce, 14th Street and Constitution Avenue, NW, Washington, DC 20230; telephone: (202) 482-1386 and (202) 482-7907, respectively.

SUPPLEMENTARY INFORMATION:

Background

On September 27, 2004, Qingdao Jinyongxiang Aquatic Foods Co., Ltd. (“JYX Aquatic”) requested an administrative review of the antidumping duty order on freshwater crawfish tail meat from the People's Republic of China (“PRC”) for subject merchandise exported during the period September 1, 2003, through August 31, 2004. On October 22, 2004, the Department of Commerce (“the Department”) initiated an administrative review of the antidumping duty order on freshwater crawfish tail meat from the PRC with respect to, among other companies, JYX Aquatic. See Initiation of Antidumping and Countervailing Duty Administrative Reviews, 69 FR 62022 (October 22, 2004).

On October 29, 2004, the Department issued its antidumping questionnaire to JYX Aquatic. On December 13, 2004, Qingdao Jinyongxiang Trade Co., Ltd. (“JYX Trade”), a party that did not request an administrative review, submitted what it stated was its response to the Department's questionnaire of October 29, 2004. In this submission at page A-3, JYX Trade stated that JYX Aquatic did not export subject merchandise to the United States during the period of review (“POR”). The Department confirmed through import data from U.S. Customs and Border Protection (“CBP”) that JYX Aquatic indeed made no exports of subject merchandise during the POR.

On February 9, 2005, the Department issued a letter to JYX Aquatic stating its intention to rescind the review with respect to JYX Aquatic because it did not export subject merchandise to the United States during the POR. In its comments filed on February 22, 2005, JYX Aquatic agreed that it had made no U.S. sales during the POR and the Department should rescind the review with respect to JYX Aquatic. On February 25, 2005, the Crawfish Processors Alliance (“Petitioner”) filed rebuttal comments. In its comments, Petitioner asserts that the review with respect to JYX Aquatic should be rescinded for lack of a qualifying sale during the POR.

Scope of the Order

The product covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10 and 1605.40.10.90, which are the new HTS numbers for prepared foodstuffs, indicating peeled crawfish tail meat and other, as introduced by the U.S. Customs Service in 2000, and HTS items 0306.19.00.10 and 0306.29.00, which are reserved for fish and crustaceans in general. The HTS subheadings are provided for convenience and customs purposes only. The written description of the scope of this order is dispositive.

Rescission of Review

We find it appropriate to rescind the review with respect to JYX Aquatic as it made no qualifying sales during the POR. Pursuant to 19 CFR 351.213(d)(3), the Department may rescind an administrative review “with respect to a particular exporter or producer, if the Secretary concludes that, during the period covered by the review, there were no entries, exports, or sales of the subject merchandise, as the case may be.” JYX Aquatic states that it did not export subject merchandise to the United States during the POR and agrees that the review with respect to JYX Aquatic should be rescinded. Import data obtained from CBP also supports a finding that JYX Aquatic did not export subject merchandise to the United States during the POR. Accordingly, the Department is rescinding the administrative review with respect to JYX Aquatic.

Notification to Interested Parties

This notice serves as a reminder to parties subject to administrative protective order (“APO”) of their responsibility concerning the disposition of proprietary information disclosed under APO in accordance with 19 CFR 351.305(a)(3). The Department hereby requests timely written notification of the return or destruction of APO materials or of the conversion to judicial protective order. Failure to comply with the regulations and terms of an APO is a sanctionable violation. This determination is issued in accordance with section 777(i)(1) of the Tariff Act of 1930, as amended, and 19 CFR 351.213(d)(4).

Dated: March 24, 2005.
Barbara E. Tillman,
Acting Deputy Assistant Secretary for Import Administration.

[FR Doc. E5-1434 Filed 3-30-05; 8:45 am]

BILLING CODE: 3510-DS-S